DEPARTMENT OF HOMELAND SECURITY

Coast Guard

33 CFR Part 165

[Docket Number USCG-2024-0222]

RIN 1625-AA00

Safety Zone; 2024 Duluth Air Spectacular, Lake Superior, Duluth, MN

AGENCY: Coast Guard, DHS.

ACTION: Temporary final rule.

SUMMARY: The Coast Guard is establishing a temporary safety zone for certain waters of the Lake Superior. This action is necessary to provide for the safety of life on these navigable waters near Canal Park in Duluth, MN during an air show on July 31, 2024. This rule prohibits persons and vessels from being in the safety zone unless authorized by the Captain of the Port Marine Safety Unit Duluth or a designated representative.

DATES: This rule is effective from 12 p.m. through 9 p.m. on July 31, 2024.

ADDRESSES: To view documents mentioned in this preamble as being available in the docket, go to https://www.regulations.gov, type USCG-2024-0222 in the search box and click “Search.” Next, in the Document Type column, select “Supporting & Related Material.”

FOR FURTHER INFORMATION CONTACT: If you have questions about this rule, call or email Chief Petty Officer Kyle Weitzell, Marine Safety Unit Duluth, Waterways Management Division, U.S. Coast Guard; telephone 218-725-3821, email Kyle.W.Weitzell@uscg.mil.

SUPPLEMENTARY INFORMATION:

I. Table of Abbreviations

CFR Code of Federal Regulations

DHS Department of Homeland Security

FR Federal Register

NPRM Notice of proposed rulemaking

§ Section

U.S.C. United States Code

II. Background Information and Regulatory History

On October 10, 2023, the Coast Guard was notified of an air show that will take place over the waters of Lake Superior near Canal Park in Duluth, MN from 3 p.m. through 6 p.m. on July 31, 2024. During this air show, planes will be flying low over the water within the boundary of a zone marked by buoys and small boat on scene. Hazards from this air show include low flying aircraft and jet exhaust produced by the engines and distraction to the pilots if general boating traffic where to be present within this area. The Captain of the Port Marine Safety Unit Duluth (COTP) has determined that potential hazards associated with the air show at this location would be a safety concern for anyone within an area defined by the following positions, beginning at N 46°47′34.81″, W 092°03′46.70″, then proceeding southwest to N 46°46′52.73″, W 092°05′05.47″, then proceeding southwest to N 46°46′48.00″, W 092°05′28.02″, the following the shoreline northward to N 46°48′1.98″, W 092°04′16.02″, and then returning to the starting point. In response, on May 7, 2024, the Coast Guard published a notice of proposed rulemaking (NPRM) titled Safety Zone; 2024 Duluth Air Spectacular, Lake Superior, Duluth, MN 89 FR 38854). There we stated why we issued the NPRM and invited comments on our proposed regulatory action related to this fireworks display. During the comment period that ended June 8, 2024, we received no comments.

III. Legal Authority and Need for Rule

The Coast Guard is issuing this rule under authority in 46 U.S.C. 70034. The COTP Marine Safety Unit Duluth has determined that potential hazards associated with the air show at this location would be a safety concern for anyone within an area defined by the following positions, beginning at N 46°47′34.81″, W 092°03′46.70″, then proceeding southwest to N 46°46′52.73″, W 092°05′05.47″, then proceeding southwest to N 46°46′48.00″, W 092°05′28.02″, the following the shoreline northward to N 46°48′1.98″, W 092°04′16.02″, and then returning to the starting point and is establishing a safety zone for this area on July 31, 2024 from 12 p.m. through 9 p.m. The purpose of this rule is to ensure safety of vessels and the navigable waters in the safety zone before, during, and after the scheduled event.

IV. Discussion of Comments, Changes, and the Rule

As noted above, we received no comments on our NPRM published May 7, 2024. There are no changes in the regulatory text of this rule from the proposed rule in the NPRM.

This rule establishes a safety zone from 12 p.m. through 9 p.m. on July 31, 2023. The safety zone will cover all navigable waters of Lake Superior near Canal Park in Duluth, MN within an area defined by the following positions, beginning at N 46°47′34.81″, W 092°03′46.70″, then proceeding southwest to N 46°46′52.73″, W 092°05′05.47″, then proceeding southwest to N 46°46′48.00″, W 092°05′28.02″, the following the shoreline northward to N 46°48′1.98″, W 092°04′16.02″, and then returning to the starting point. The duration of the zone is intended to ensure the safety of vessels and these navigable waters before, during, and after the scheduled air show to begin sometime between 3 p.m. through 6 p.m., depending on weather conditions. No vessel or person will be permitted to enter the safety zone without obtaining permission from the COTP or a designated representative.

V. Regulatory Analyses

We developed this rule after considering numerous statutes and Executive orders related to rulemaking. Below we summarize our analyses based on a number of these statutes and Executive orders, and we discuss First Amendment rights of protestors.

A. Regulatory Planning and Review

Executive Orders 12866 and 13563 direct agencies to assess the costs and benefits of available regulatory alternatives and, if regulation is necessary, to select regulatory approaches that maximize net benefits. This rule has not been designated a “significant regulatory action,” under section 3(f) of Executive Order 12866, as amended by Executive Order 14094 (Modernizing Regulatory Review). Accordingly, this rule has not been reviewed by the Office of Management and Budget (OMB).

This regulatory action determination is based the short duration and small size of the safety zone as well as the ability for most boats to transit between the Duluth Shipping Canal and Lake Superior without entering the zone.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard received no comments from the Small Business Administration on this rulemaking. The Coast Guard certifies under 5 U.S.C. 605(b) that this rule will not have a significant economic impact on a substantial number of small entities.

While some owners or operators of vessels intending to transit the safety zone may be small entities, for the reasons stated in section V.A above, this rule will not have a significant economic impact on any vessel owner or operator.

Under section 213(a) of the Small Business Regulatory Enforcement Fairness Act of 1996 (Pub. L. 104-121), we want to assist small entities in understanding this rule. If the rule would affect your small business, organization, or governmental jurisdiction and you have questions concerning its provisions or options for compliance, please call or email the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969(42 U.S.C. 4321-4370f), and have determined that this action is one of a category of actions that do not individually or cumulatively have a significant effect on the human environment. This rule involves a safety zone lasting not more than 9 hours that would prohibit entry within an area under the flight path of aircraft participating in an air show. It is categorically excluded from further review under paragraph L60(a) of Appendix A, Table 1 of DHS Instruction Manual 023-01-001-01, Rev. 1. A Record of Environmental Consideration supporting this determination is available in the docket. For instructions on locating the docket, see the ADDRESSES section of this preamble.

G. Protest Activities

The Coast Guard respects the First Amendment rights of protesters. Protesters are asked to call or email the person listed in the FOR FURTHER INFORMATION CONTACT section to coordinate protest activities so that your message can be received without jeopardizing the safety or security of people, places or vessels.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 46 U.S.C. 70034, 70051, 70124; 33 CFR 1.05-1, 6.04-1, 6.04-6, and 160.5; Department of Homeland Security Delegation No. 00170.1, Revision No. 01.3.

2. Add § 165.T09-0222 to read as follows:

§ 165.T09-0222 Safety Zone; 2024 Duluth Air Spectacular, Lake Superior, Duluth, MN.

(a) Location. The following area is a safety zone: All navigable waters of Lake Superior within an area defined by the following positions, beginning at N 46°47′34.81″, W 092°03′46.70″, then proceeding southwest to N 46°46′52.73″, W 092°05′05.47″, then proceeding southwest to N 46°46′48.00″, W 092°05′28.02″, the following the shoreline northward to N 46°48′1.98″, W 092°04′16.02″, and then returning to the starting point near Canal Park in Duluth, MN.

(b) Enforcement period. July 31, 2024, from 12 p.m. through 9 p.m. The specific time frame for waterway closure will be announced via Broadcast Notice to Mariners.

(c) Definitions. The following definitions apply to this section:

(1) On-scene representative means any Coast Guard commissioned, warrant, or petty officer designated by the Captain of the Port Duluth to monitor a safety zone, permit entry into the zone, give legally enforceable orders to persons or vessels within the zones, and take other actions authorized by the Captain of the Port.

(2) Public vessel means vessels owned, chartered, or operated by the United States, or by a State or political subdivision thereof.

(d) Regulations. (1) In accordance with the general regulations in § 165.23 of this part, entry into, transiting, or anchoring within this safety zone identified in paragraph (a) of this section is prohibited unless authorized by the Captain of the Port Duluth or his designated on-scene representative.

(2) The safety zone identified in paragraph (a) of this section is closed to all vessel traffic, except as may be permitted by the Captain of the Port Duluth or his designated on-scene representative.

(3) Vessel operators desiring to enter or operate within the safety zone must contact the Captain of the Port Duluth or his on-scene representative to obtain permission to do so. The Captain of the Port Duluth or his on-scene representative may be contacted via VHF Channel 16. Vessel operators given permission to enter or operate in the safety zone must comply with all directions given to them by the Captain of the Port Duluth, or his on-scene representative.

(e) Exemption. Public vessels, as defined in paragraph (c) of this section, are exempt from the requirements in this section.

(f) Waiver. For any vessel, the Captain of the Port Duluth or his designated representative may waive any of the requirements of this section, upon finding that operational conditions or other circumstances are such that application of this section is unnecessary or impractical for the purposes of public or environmental safety.

Dated: June 20, 2024.
John P. Botti,
Commander, U.S. Coast Guard, Captain of the Port, Marine Safety Unit Duluth.

[FR Doc. 2024-13973 Filed 6-26-24; 8:45 am]

BILLING CODE 9110-04-P